DEPARTMENT OF ENERGY

Federal Energy Regulatory Commission

[Docket No. GP00-1-000]

Williams Energy Marketing & Trading Co.; Notice of Petition for Declaratory Order

March 17, 2000.

Take notice that on March 14, 2000 William Energy Marketing & Trading Company (Williams) tendered for filing a petition for a declaratory order to remove uncertainty regarding the applicability of the Commission's “buy/sell” policy to offshore production area transactions. Specifically, Williams requests a declaratory order confirming that the buy/sell policy does not apply to Outer Continental Shelf production-area arrangements like those contemplated by Royalty-In-Kind pilot projects recently initiated by the U.S. Department of Interior's Minerals Management Service.

Any person desiring to be heard or to protest said filing should file a motion to intervene or protest with the Federal Energy Regulatory Commission, 888 First Street, N.E., Washington, DC 20426, in accordance with sections 385.214 or 385.211 of the Commission's Rules and Regulations. All such motions or protests must be filed on or before April 15, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-7153 Filed 3-22-00; 8:45 am]

BILLING CODE 6717-01-M